ENVIRONMENTAL PROTECTION AGENCY

[ER-FRL-9039-8]

Environmental Impact Statements; Notice of Availability

Responsible Agency: Office of Federal Activities, General Information (202) 564-7156 or https://www2.epa.gov/nepa/.

Weekly receipt of Environmental Impact Statements

Filed 06/04/2018 Through 06/08/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180129, Final, FTA, CA, Geary Corridor Bus Rapid Transit Project, Under 23 U.S.C. 139(n)(2), FTA has issued a single document that consists of a final environmental impact statement and record of decision. Therefore, the 30-day wait/review period under NEPA does not apply to this action. Contact: Alex Smith 415-734-9472

EIS No. 20180130, Draft, USFS, MT, Gold Butterfly, Comment Period Ends: 07/30/2018, Contact: Tami Sabol 406-777-7410

EIS No. 20180131, Draft, FTA, OR, Southwest Corridor Light Rail Project Draft Environmental Impact Statement, Comment Period Ends: 07/30/2018, Contact: Mark Assam 206-220-7954

EIS No. 20180132, Final, NY, State Governor's Office of Storm Recovery, NY, Coastal and Social Resiliency Initiatives for Tottenville Shoreline, Review Period Ends: 07/16/2018, Contact: Daniel Greene 212-480-2321

Amended Notice

Revision to the Federal Register Notice published 05/04/2018, extend comment period from 06/18/2018 to 06/29/2018.

EIS No. 20180078, Draft, TxDOT, TX, Oakhill Parkway, Contact: Carlos Swonke 512-416-2734

Adoption

EPA has adopted EIS 20180075, Pure Water San Diego Program, North City Project, Final, BR, CA. EPA was a cooperating agency on this project; therefore, recirculation is not necessary under Section 1506.3(c) of the CEQ NEPA regulations. Contact: Danusha Chandy 202-566-2165.

Dated: June 12, 2018.
Robert Tomiak,
Director, Office of Federal Activities.

[FR Doc. 2018-12861 Filed 6-14-18; 8:45 am]

BILLING CODE 6560-50-P